FARM CREDIT ADMINISTRATION

12 CFR Part 655

RIN 3052-AD47

Federal Agricultural Mortgage Corporation Disclosure and Reporting

AGENCY: Farm Credit Administration.

ACTION: Notification of effective date.

SUMMARY: The Farm Credit Administration (FCA) issued a direct final rule adopting administrative amendments to eliminate requirements for the Federal Agricultural Mortgage Corporation (Farmer Mac) to submit paper copies of certain reports to the FCA's Office of Secondary Market Oversight (OSMO). Electronic copies of the reports are sufficient for oversight and examination purposes.

DATES: The direct final rule amending 12 CFR part 655, published on May 24, 2021 (86 FR 27797), is effective on July 9, 2021.

FOR FURTHER INFORMATION CONTACT:

Technical Information: Tiffany West, Assistant to the Director, Office of Secondary Market Oversight, Farm Credit Administration, McLean, VA 22102-5090, (703) 883-4280, TTY (703) 883-4056; or

Legal Information: Hazem Isawi, Senior Attorney, Office of General Counsel, Farm Credit Administration, McLean, VA 22102-5090, (703) 883-4020, TTY (703) 883-4056.

SUPPLEMENTARY INFORMATION: On May 24, 2021, FCA issued a direct final rule adopting administrative amendments to eliminate requirements for Farmer Mac to submit paper copies of certain reports to OSMO. In accordance with 12 U.S.C. 2252(c)(1), the effective date of the rule is no earlier than 30 days from the date of publication in the Federal Register during which either or both Houses of Congress are in session. Based on the records of the sessions of Congress, the effective date of the regulations is July 9, 2021.

Dated: July 12, 2021.
Dale Aultman,
Secretary, Farm Credit Administration Board.

[FR Doc. 2021-15115 Filed 7-15-21; 8:45 am]

BILLING CODE 6705-01-P